DEPARTMENT OF TRANSPORTATION

Federal Motor Carrier Safety Administration

[Docket No. FMCSA-2009-0183]

Agency Information Collection Activities; Extension of a Currently-Approved Information Collection Request: Training Certification for Entry-Level Commercial Motor Vehicle (CMV) Operators

AGENCY: Federal Motor Carrier Safety Administration (FMCSA), DOT.

ACTION: Notice and request for comments.

SUMMARY: In accordance with the Paperwork Reduction Act of 1995, FMCSA announces its plan to submit to the Office of Management and Budget (OMB) for approval its request to extend a currently-approved information collection request (ICR) entitled, “Training Certification for Entry-level CMV Operators,” that relates to the training requirements for drivers applying for a commercial driver's license (CDL). There is no change from the burden estimate approved by OMB for this ICR on March 11, 2008. On May 28, 2009, FMCSA published a Federal Register notice (74 FR 25607) allowing for a 60-day comment period on the extension of this ICR. The Agency did not receive any comments in response to this notice.

DATES: Please send your comments by September 24, 2009. OMB must receive your comments by this date in order to act quickly on the ICR.

ADDRESSES: All comments should reference Federal Docket Management System (FDMS) Docket Number FMCSA-2009-0183. Interested persons are invited to submit written comments on the proposed information collection to the Office of Information and Regulatory Affairs, Office of Management and Budget. Comments should be addressed to the attention of the Desk Officer, Department of Transportation/Office of the Secretary, and sent via electronic mail to oira_submission@omb.eop.gov, faxed to (202) 395-6974, or mailed to the Office of Information and Regulatory Affairs, Office of Management and Budget, Docket Library, Room 10102, 725 17th Street, NW., Washington, DC 20503.

FOR FURTHER INFORMATION CONTACT: Mr. Thomas Yager, Chief, Driver and Carrier Operations Division, FMCSA, 1200 New Jersey Avenue, SE., Washington, DC 20590. Telephone: (202) 366-4325. E-mail: MCPSD@dot.gov.

SUPPLEMENTARY INFORMATION: Title: Training Certification for Entry-Level Commercial Motor Vehicle Operators.

OMB Control Number: 2126-0028.

Type of Request: Extension of a currently-approved information collection request.

Respondents: Entry-level CMV drivers.

Estimated Number of Respondents: 45,611.

Estimated Time per Response: 10 minutes.

Expiration Date: September 30, 2009.

Frequency of Response: On occasion.

Estimated Total Annual Burden: 7,602 hours. FMCSA estimates that an entry-level driver requires approximately 10 minutes to complete the tasks necessary to comply with the regulation. Those tasks are: photocopying the training certificate, giving the photocopy to the motor carrier employer, and placing the original of the certificate in a personal file. Therefore, the annual burden for all entry-level drivers of CMVs is 7,602 hours [45,611 respondents × 10 minutes/60 minutes to complete a response = 7,601.8 hours (rounded to 7,602 hours)].

Definitions: “Commercial Motor Vehicle (CMV)”: A motor vehicle operated in commerce and having a gross vehicle weight rating of 26,001 pounds or more, regardless of actual weight, or designed to transport 16 or more passengers, or used to transport placardable and dangerous hazardous materials (49 CFR 383.5). The term “CMV” is limited to this definition in this document; the term “CDL driver” is used because the operators of these CMVs are required to have a valid commercial driver's license (CDL). This rule currently applies solely to “entry-level” CDL drivers, i.e. those who have less than 1 year of experience operating a CMV in interstate commerce (49 CFR 380.502(b)).

Background:

The Motor Carrier Act of 1935 provides that “The Secretary of Transportation may prescribe requirements for (1) qualifications and maximum hours of service of employees of, and safety of operation and equipment of, a motor carrier; and (2) qualification and maximum hours of service of employees of, and standards of equipment of, a motor private carrier, when needed to promote safety of operation” [49 U.S.C. 3502(b)]. This Act is applicable to interstate commerce and not intrastate commerce. The Commercial Motor Vehicle Safety Act of 1986 (CMVSA) created the CDL program and defined “commerce” in such as way as to include interstate and intrastate operations (49 U.S.C. 31302(2),(4)]. Section 4007(a)(2) of the Intermodal Surface Transportation Efficiency Act of 1991 (ISTEA) (Pub. L. 102-240, December 18, 1991) directed the FHWA to “commence a rulemaking proceeding on the need to require training of all entry-level drivers of CMVs.” The Congress did not explicitly provide that ISTEA extended to operations in intrastate commerce. In view of the nature of the concurrent authority created by the CMVSA and the Motor Carrier Act of 1935, and the absence of direction from the Congress in ISTEA, FMCSA has decided that entry-level training requirements should be confined to those drivers applying for a CDL who intend to operate CMVs in interstate commerce.

The text of the 60-day notice of the proposed extension of this ICB, published on May 28, 2009 (74 FR 25607), failed to cite the Motor Carrier Act of 1935, upon which this ICR is primarily based. Today's authority for this driver training activity is cited correctly and as it should have been cited in that notice. There has been no change in the statutory authority for this training since publication of the 60-day notice. For a more details of the Agency's analysis, see the section titled, “Legal Basis for the Rulemaking,” on the first page of the Notice of Proposed Rulemaking titled, “Minimum Training Requirements for Entry-Level CMV Operators” (72 FR 73226, December 26, 2007).

On May 21, 2004, by final rule, FMCSA mandated training for all interstate CDL operators in four subject areas, effective July 20, 2004 (69 FR 29384). In 2005, the final rule was challenged in the U.S. Court of Appeals for the D.C. Circuit. While the court ordered a remand so the Agency could review the matter, the court did not vacate the rule. Consequently, the 2004 final rule is currently in effect (Advocates for Highway and Auto Safety v. Federal Motor Carrier Safety Administration, 429 F. 3d 1136 (D.C.Cir. 2005).

Public Comments Invited: You are asked to comment on any aspect of this information collection request, including: (1) Whether the proposed collection is necessary for the FMCSA's performance of functions; (2) the accuracy of the estimated burden; (3) ways for the FMCSA to enhance the quality, usefulness, and clarity of the collected information; and (4) ways that the burden could be minimized without reducing the quality of the collected information.

Issued on: August 18, 2009.
David Anewalt,
Acting Associate Administrator for Research and Information Technology.

[FR Doc. E9-20391 Filed 8-24-09; 8:45 am]

BILLING CODE 4910-EX-P